DEPARTMENT OF TRANSPORTATION

Federal Aviation Administration

14 CFR Part 71

[Docket No. FAA-2024-2533; Airspace Docket No. 22-AAL-26]

RIN 2120-AA66

Amendment of Colored Federal Airways Green 8 (G-8), Green 10 (G-10), Green 12 (G-12), and Red 99 (R-99); Revocation of Colored Federal Airway Blue 27 (B-27) and Alaskan Very High Frequency Omnidirectional Range Federal Airway V-619 in Alaska

AGENCY: Federal Aviation Administration (FAA), DOT.

ACTION: Final rule; correction.

SUMMARY: This action corrects a final rule published by the FAA in the Federal Register on May 13, 2025, amending Colored Federal Airways Green 8 (G-8), Green 10 (G-10), Green 12 (G-12), and Red 99 (R-99); Revocation of Colored Federal Airway Blue 27 (B-27) and Alaskan Very High Frequency Omnidirectional Range (VOR) Federal Airway V-619 in Alaska.

DATES: Effective date 0901 UTC, August 7, 2025. The Director of the Federal Register approves this incorporation by reference action under 1 CFR part 51, subject to the annual revision of FAA Order 7400.11 and publication of conforming amendments.

ADDRESSES: FAA Order 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Steven Roff, Rules and Regulations Group, Policy Directorate, Federal Aviation Administration, 600 Independence Avenue SW, Washington, DC 20597; telephone: (202) 267-8783.

SUPPLEMENTARY INFORMATION:

History

The FAA published a final rule in the Federal Register (90 FR 20232; May 13, 2025), amending Colored Federal Airways G-8, G-10, G-12, and R-99; Revocation of Colored Federal Airway B-27 and Alaskan VOR Federal Airway V-619 in Alaska. Subsequent to publication, the FAA identified a typographical error in the explanation of changes listed in “The Rule” section for R-99. In this section, it states “As amended, R-99 extends between the Port Heiden and the Dutch Harbor NDB/DMEs in Alaska.” This section should have stated that R-99 would extend between St. Paul Island and the Dutch Harbor NDB/DMEs.

Correction to Final Rule

Accordingly, pursuant to the authority delegated to me, in Docket No. FAA-2024-2048 as published in the Federal Register on May 13, 2025 (90 FR 20233), FR Doc. 2025-08270, is corrected as follows:

1. On page 20232, in the third column, under the heading “The Rule,” correct the last sentence in the Colored Federal Airway R-99 explanation to read: “As Amended, R-99 extends between the St. Paul Island and the Dutch Harbor NDB/DMEs in Alaska.”

Issued in Washington, DC, on May 20, 2025.
Brian Eric Konie,
Manager (A), Rules and Regulations Group.

[FR Doc. 2025-09422 Filed 5-23-25; 8:45 am]

BILLING CODE 4910-13-P